TENNESSEE VALLEY AUTHORITY

Environmental Impact Statement—Watts Bar Reservoir Integrated Land Plan, Loudon, Meigs, Rhea, and Roane Counties, TN

AGENCY: Tennessee Valley Authority (TVA).

ACTION: Notice of intent.

SUMMARY: This notice is provided in accordance with the Council on Environmental Quality's regulations (40 CFR parts 1500 to 1508), TVA's procedures implementing the National Environmental Policy Act, and Section 106 of the National Historic Preservation Act and its implementing regulations (36 CFR § 800). TVA will prepare an Environmental Impact Statement (EIS) to assess the impact of various alternatives for management of Watts Bar Reservoir project lands in Loudon, Meigs, Rhea, and Roane Counties in Tennessee through the development of a Reservoir Land Plan.

TVA is considering updating a Reservoir Land Management Plan completed for Watts Bar Reservoir in 1988. The new Land Plan will allocate lands to various categories of uses, which will then be used to guide the types of activities that will be considered on TVA land. This will enable TVA to allocate additional lands that were not previously considered, and to reassess past land use designations taking into account public needs, the presence of sensitive environmental resources, and TVA policies.

Lead Agency: The Tennessee Valley Authority (TVA) is the lead agency in the development of this EIS.

DATES: Comments on the scope of the EIS should be received on or before April 15, 2004.

ADDRESSES: Written comments should be sent to Jon M. Loney, Manager, NEPA Administration, Environmental Policy and Planning, Tennessee Valley Authority, 400 West Summit Hill Drive, Knoxville, Tennessee 37902-1499.

FOR FURTHER INFORMATION CONTACT: Richard L. Toennisson, NEPA Specialist, Environmental Policy and Planning, Tennessee Valley Authority, 400 West Summit Hill Drive, WT 8C, Knoxville, Tennessee 37902-1499; telephone (865) 632-8517 or e-mail rltoennisson@tva.gov.

SUPPLEMENTARY INFORMATION: Watts Bar Reservoir was completed in 1942 and is one of 23 multipurpose reservoirs operated by TVA for navigation, flood control, power production, recreation, and other uses. The Watts Bar Reservoir flows from northeast to southwest through Loudon, Meigs, Rhea, and Roane counties in east Tennessee. The reservoir extends from Watts Bar Dam 72.4 miles to Fort Loudoun Dam on the Tennessee River and 23.1 miles on the Clinch River to Melton Hill Dam. It also includes portions of the Emory and Little Emory Rivers. TVA originally acquired 49,686 acres of land in fee simple ownership for reservoir construction. Of that, 38,600 acres are covered by water during normal summer pool. Subsequent transfers of land by TVA for economic, industrial, residential, or public recreation development have resulted in a current balance of approximately 14,200 acres of TVA land on Watts Bar Reservoir.

TVA is considering reassessing and updating a Reservoir Land Management Plan completed for Watts Bar Reservoir in 1988. This will enable TVA to allocate additional lands that were not previously considered, and to reassess land use designations taking into account public needs, the presence of sensitive environmental resources, and TVA policies. TVA develops reservoir land management plans to facilitate the management of reservoir properties in its custody. In general, TVA manages public land to protect and enhance natural resources, generate prosperity, and improve the quality of life in the Tennessee Valley. These plans allocate lands to various categories of uses, which are then used to guide the types of activities that will be considered on each tract of land. By providing a clear statement of how TVA intends to manage land and by identifying land for specific uses, TVA hopes to balance conflicting uses and facilitate decision-making for use of its land. Plans are submitted to the TVA Board of Directors for approval and adopted as policy to provide for long-term land stewardship and accomplishment of TVA responsibilities under the 1933 TVA Act.

In developing the new Watts Bar Reservoir Land Plan, it is anticipated that lands currently committed to a specific use would be allocated to that current use; however, changes that support TVA goals and objectives can be considered. Committed land parcels include those with existing long term easements, leases, licenses, and contracts, parcels with outstanding land rights, or parcels that are necessary for TVA project operations. All lands under TVA control would be allocated in the planning process. Alternative approaches to land allocation would be analyzed in the EIS. The No Action alternative would continue to rely on the existing 1988 Watts Bar Reservoir Land Management Plan. The 1988 plan allocates land into 19 categories, including natural areas, forest and wildlife management, recreation, and industrial sites. The action alternative(s) would propose options for allocating reservoir lands into land use zones such as: Project Operations, Sensitive Resource Management, Natural Resource Conservation, Economic Development, Developed Recreation, and Residential Access. The action alternatives are expected to include scenarios with allocations reflecting varying emphasis on conservation, development, or balanced growth.

In addition to allocating TVA lands into land use zones, TVA proposes to provide detailed prescriptions for conserving, enhancing, and integrating natural, cultural, visual, and recreation resources management on a reservoir-wide basis. This detailed planning is proposed within the planning zones for Project Operations, Sensitive Resource Management, Natural Resource Conservation, and Developed Recreation. This portion of planning will encompass the management or protection of public use and access, natural areas, forest health, exotic invasive species, nuisance wildlife, ecological diversity, water quality, scenic quality and uniqueness, archeological sites, historic structures and sites, and public outdoor recreation opportunities.

This EIS will tier from TVA's Final EIS, Shoreline Management Initiative: An Assessment of Residential Shoreline Development Impacts in the Tennessee Valley (November 1998). That EIS evaluated alternative policies for managing residential uses along TVA's reservoir system, including Watts Bar Reservoir.

TVA anticipates that the EIS will include discussion of the potential effects of alternatives on the following resources and issue areas: Aquatic ecology, water quality, wetlands, terrestrial ecology, cultural resources, recreation, visual resources, threatened and endangered species, and navigation. Other issues which may be discussed, depending on the potential impacts of the alternatives, include floodplains, prime farmland, and air quality.

Public Participation: This notice constitutes TVA's intent to prepare an EIS for the development of the Watts Bar Reservoir Land Plan. TVA is interested in receiving comments on the scope of issues to be addressed in the EIS. The participation of affected federal, state, and local agencies and Indian tribes, as well as other interested persons is invited. Further, pursuant to the regulations of the Advisory Council on Historic Preservation implementing Section 106 of the National Historic Preservation Act, TVA also solicits comments on the potential of the proposed land allocation plan to affect historic properties. Additionally, this notice also provides an opportunity under Executive Orders 11990 and 11988 for early public review as to the potential of TVA's management plan to affect wetlands and floodplains respectively. Written comments on the scope of the EIS, including the range of alternatives that should be considered and the impacts to be assessed, should be received on or before April 15, 2004.

Comments may also be provided in an oral or written format at a public scoping meeting, which will take place during the comment period (i.e., prior to April 15, 2004) in the Watts Bar area. The date, time, location, and place will be announced in local newspapers, on the TVA Web page at http://www.tva.gov, and may also be obtained by contacting the persons listed above. In addition, a questionnaire for gathering specific information will be distributed at the public meeting and will be available on TVA's Web site.

Upon consideration of the scoping comments, TVA will develop alternatives and identify environmental issues to be addressed in the EIS. Following analysis of the environmental consequences of each alternative, TVA will prepare a draft EIS for public review and comment, and distribute it to commenting agencies and the public. Notice of availability of the draft EIS will be published in the Federal Register. Any meetings that are scheduled to receive comments on the draft EIS will be announced by TVA.

Dated: February 11, 2004.
Kathryn J. Jackson,
Executive Vice President, River System Operations & Environment.

[FR Doc. 04-3427 Filed 2-24-04; 10:39 am]

BILLING CODE 8120-08-P